DEPARTMENT OF COMMERCE

Patent and Trademark Office

[Docket No.: PTO-P-2023-0001]

Public Meeting on Innovation Driven by Artificial Intelligence

AGENCY: United States Patent and Trademark Office, Department of Commerce.

ACTION: Notice of public meeting.

SUMMARY: The United States Patent and Trademark Office (USPTO) plays an important role in incentivizing and protecting innovation, including innovation driven by artificial intelligence (AI), to ensure continued U.S. leadership in AI and other emerging technologies (ET). The USPTO's Texas Regional Office will host a public meeting on innovation driven by AI on February 8, 2023, at 11 a.m. CT. The meeting will be held in collaboration with the Dallas Bar Association (DBA) Intellectual Property (IP) section and the State Bar of Texas IP section. This will be the third meeting in the USPTO's AI/ET Partnership Series. First announced in June 2022, the AI/ET Partnership provides an opportunity to bring stakeholders together through a series of engagements to share ideas, feedback, experiences, and insights on the intersection of IP and AI/ET.

DATES: The public meeting will be held on February 8, 2023, from 11 a.m. to 3 p.m. CT. Persons seeking to speak at the listening session during the meeting must register by February 2, 2023, at the website in ADDRESSES.

ADDRESSES: Register at www.uspto.gov/about-us/events/aiet-partnership-series-3-ai-driven-innovation. The public meeting will be held virtually and in person at the Arts District Mansion, 2101 Ross Ave., Dallas, TX 75201. Because in-person attendance is limited, anyone wishing to attend in person is advised to register early at www.uspto.gov/about-us/events/aiet-partnership-series-3-ai-driven-innovation. All major entrances to the building are accessible to people with disabilities.

FOR FURTHER INFORMATION CONTACT: Srilakshmi Kumar at srilakshmi.kumar@uspto.gov. You can also send inquiries to AIPartnership@uspto.gov. Please direct all media inquiries to the Office of the Chief Communications Officer at 571-272-8400.

SUPPLEMENTARY INFORMATION: The USPTO held its inaugural AI/ET Partnership meeting in June 2022. This meeting provided an overview of the National AI Initiative and the USPTO's efforts on AI/ET, including the USPTO AI Patent Dataset. The meeting also discussed important patent policy issues related to AI/ET inventions, such as subject matter eligibility, disclosure, and inventorship.

The USPTO held its second AI/ET Partnership meeting in September 2022. This meeting focused on AI and biotechnology, and explored current trends highlighting the convergence of technologies in the life sciences and AI, as well as the IP considerations arising from this technological convergence.

The USPTO will hold its third AI/ET Partnership meeting virtually and in person at the Arts District Mansion in Dallas, Texas, on Wednesday, February 8. This meeting is being hosted by the USPTO's Texas Regional Office in collaboration with the DBA IP section and the State Bar of Texas IP section.

During the meeting, panelists from the USPTO and diverse stakeholders from academia, industry, and law firms will explore various IP policy issues with respect to AI-driven innovation. Panel discussions will cover: (1) the current state of AI-driven innovation, (2) ways to address inventions created with significant AI contributions, and (3) unanticipated IP challenges from AI-driven innovation. The meeting will also include a public listening session.

Instructions and Information on the Public Meeting

The public meeting will be held virtually and in person at the Arts District Mansion, 2101 Ross Ave., Dallas, TX 75201, from 11 a.m. to 3 p.m. CT. The agenda is available on the USPTO website at www.uspto.gov/about-us/events/aiet-partnership-series-3-ai-driven-innovation. Registrations to attend the meeting and requests to speak at the listening session may be submitted on the same web page.

Katherine K. Vidal,
Under Secretary of Commerce for Intellectual Property and Director of the United States Patent and Trademark Office.

[FR Doc. 2023-01645 Filed 1-25-23; 8:45 am]

BILLING CODE 3510-16-P